OCCUPATIONAL SAFETY AND HEALTH REVIEW COMMISSION

29 CFR Part 2204

Rules Implementing the Equal Access to Justice Act; Correction

AGENCY: Occupational Safety and Health Review Commission.

ACTION: Correcting amendment.

SUMMARY: This document corrects the final rule published by the Occupational Safety and Health Review Commission in the Federal Register on May 17, 2021. That rule revised the Occupational Safety and Health Review Commission's rules implementing the Equal Access to Justice Act.

DATES: Effective June 11, 2021

FOR FURTHER INFORMATION CONTACT: Carter Tellinghuisen, Attorney-Advisor, Office of the General Counsel, by telephone at (202) 606-5410 ext. 211, by email at ctellinghuisen@oshrc.gov, or by mail at 1120 20th Street NW, Ninth Floor, Washington, DC 20036-3457.

SUPPLEMENTARY INFORMATION: OSHRC published revisions to its rules implementing the Equal Access to Justice Act on May 17, 2021 (86 FR 26658). This document makes a correction to the final rule.

List of Subjects in 29 CFR Part 2204

Administrative practice and procedure, Equal access to justice.

Accordingly, 29 CFR part 2204 is amended by making the following correcting amendments:

PART 2204—IMPLEMENTATION OF THE EQUAL ACCESS TO JUSTICE ACT IN PROCEEDINGS BEFORE THE OCCUPATIONAL SAFETY AND HEALTH REVIEW COMMISSION

1. The authority citation for part 2204 continues to read as follows:

Authority: 5 U.S.C. 504.

2. In § 2204.302, revise paragraph (a) to read as follows:

§ 2204.302 Net worth exhibit.

(a) Each applicant except a qualified tax-exempt organization, cooperative association, or, in the case of an application for an award related to an allegedly excessive demand by the Secretary, a small entity as that term is defined by 5 U.S.C. 601(6), shall provide with its application a detailed exhibit showing the net worth of the applicant as required by § 2204.301(c) when the proceeding was initiated. The exhibit may be in any form convenient to the applicant that provides full disclosure of the applicant's assets and liabilities and is sufficient to determine whether the applicant qualifies as a party as defined in § 2204.201. The judge or Commission may require an applicant to file additional information to determine its eligibility for an award.

* * * * *

Cynthia L. Attwood,
Chairman.
Amanda Wood Laihow,
Commissioner.

[FR Doc. 2021-11906 Filed 6-10-21; 8:45 am]

BILLING CODE 7600-01-P